DEPARTMENT OF DEFENSE

Office of the Secretary

Group of Advisors to the National Security Education Board Meeting

AGENCY: National Defense University, DoD.

ACTION: Notice of meeting.

SUMMARY: Pursuant to Public Law 92-463, notice is hereby given of a forthcoming meeting of the Group of Advisors to the National Security Education Board. The purpose of the meeting is to review and make recommendations to the Board concerning requirements established by the David L. Boren National Security Education Act, Title VIII of Public Law 102-183, as amended.

DATES: September 9-10, 2001.

ADDRESSES: Churchill Hotel, 1914 Connecticut Avenue, NW., Washington, DC 20009.

FOR FURTHER INFORMATION CONTACT: Dr. Edmond J. Collier, Director for Programs, National Security Education Program, 1101 Wilson Boulevard, Suite 1210, Rosslyn, P.O. Box 20010, Arlington, Virginia 22209-2248; (703) 696-1991. Electronic mail address: colliere@ndu.edu

SUPPLEMENTARY INFORMATION: The Group of Advisors meeting is open to the public.

Dated: August 10, 2001.
L.M. Bynum,
Alternate OSD Federal Register Liaison Officer.

[FR Doc. 01-20582 Filed 8-15-01; 8:45 am]

BILLING CODE 5001-08-M